GENERAL SERVICES ADMINISTRATION

[Notice-MX-2014-01; Docket No. 2014-0002; Sequence 18]

Announcement of Requirements and Registration for the “Public Sector Program Management—a Vision for the Future” Ideation Challenge

AGENCY: Performance Improvement Council (PIC), General Services Administration (GSA).

ACTION: Notice.

SUMMARY: The Performance Improvement Council (PIC) located in the General Services Administration (GSA) announces the “Public Sector Program Management—A Vision for the Future” ideation challenge. GSA is interested in initiating a public dialog on the future of program management in the government context. The contest challenges the public to look ahead 25 years and imagine how advances in technology and the skill set of a new generation will drive the development of public sector program management.

DATES: The challenge begins May 13, 2014 and ends May 27, 2014 (1:59 p.m. Eastern Daylight Time). Contestants must register and submit all entries by the contest end date. Public voting for a “Most Popular” entry begins May 13, 2014 and extends through June 03, 2014 (1:59 p.m. Eastern Daylight Time). GSA expects to announce winners in June, 2014. GSA reserves the right to extend the registration and submission period, and delay the award announcement, for any reason. The challenge can be viewed at https://www.challenge.gov/.

FOR FURTHER INFORMATION CONTACT: Bethany Blakey, Performance Improvement Council, General Services Administration at 202-694-2981 and/or via email: bethany.blakey@gsa.gov.

SUPPLEMENTARY INFORMATION:

1. Subject of the Competition: GSA designed this challenge to generate a discussion about the coming state of program management in the public sector. Planning, project management, financial management, employee engagement, and reporting are among the key responsibilities of today's public sector program managers. The approach to each of these and so many others is defined, in part, by the state of existing technology, access to data, and the ability of a skilled workforce to take full advantage of those resources. Today's tools and resources both enable and limit program managers' ability to deliver the best service to the public, efficiently and within budget, while adjusting to changes in political direction and mission focus.

This contest challenges contestants to look beyond the current state to imagine how new or emerging trends will transform the government workplace and the practice of program management. Contestants should describe where they think the field of public sector program management will be in 25 years. Contestants may choose to illustrate their visions with scenarios that reach ahead to the year 2039 or they may describe their visions in more general terms. The challenge instructions encourage contestants to use their foresight and be creative. Contestants need not address any particular management issue or question. Instead, the rules give contestants the latitude to develop and present their own visions.

The challenge instructions contain brief profiles of four government program managers and some of the challenges they faced in 2014. These profiles appear at the bottom of this notice. They are an entirely optional resource for the contestants' benefit. Contestants are encouraged to use them if they find them helpful in focusing their thoughts. However, entries need not refer to any of the themes discussed in the profiles.

2. Contestant Eligibility: The challenge is open to U.S. citizens and permanent legal residents age 18 and older at the time of registration, and private entities such as corporations and nonprofit organizations that are incorporated in and maintain a primary place of business in the United States. Individuals entering as teams, and individuals submitting entries on behalf of corporations or other organizations, must meet the eligibility requirements of individual contestants. All eligible individuals, teams, or other entities that submit entries that adhere to the contest's rules are referred to as “contestants” below. The following individuals and entities are not eligible to participate:

i. GSA employees and contractors, and members of their immediate families (spouses, children, siblings, and parents).

ii. Other Federal Government employees, acting within the scope of their employment.

iii. Entities involved with the production or execution of the challenge, employees of such entities, and members of their immediate families.

iv. Contest judges and individuals with a familial or financial relationship with a contest judge.

v. Entities in which a contest judge is an employee, officer, director, or agent.

vi. Other entities in which a contest judge has a personal or financial interest.

Final determination of contestant eligibility rests with GSA.

3. Contestant Registration and Submission of Entries: Contestants must register and submit their entries through the contest site's “Submit Solution” tab (accessible from https://www.challenge.gov/) between May 13, 2014 and May 27, 2014 (1:59 p.m. Eastern Daylight Time). Contestants will be prompted for the following registration information when they submit their entries:

i. Contestant's name (or the team's name for team entries);

ii. Contestant's email address (teams must enter the team leader's email address);

iii. The title of contestant's entry;

iv. External link to contestant's YouTube video entry, if applicable; and

v. The text of contestant's submission.

If entering as a team, contestants must submit their team leader's name in an attached text file titled “Team Information” (or something similar) using the contest site's “Additional Files” option. Registered contestants and team leaders will receive contest updates by email.

Contestants must accept the following terms and conditions to submit an entry:

i. Contestants warrant that they are the sole authors and copyright holders of their entries, and that their entries do not infringe the property or other rights of any other individual or entity as protected by U.S. law.

ii. Contestants grant GSA the non-exclusive right to use, publish, and reproduce their names and entries for educational and/or promotional purposes, as well as the right to permit the same use by any other agency of the Federal Government.

iii. Contestants must take care to avoid the suggestion or the appearance of Government endorsement of their participation in this contest, or of the content of their entries.

iv. GSA will discard entries and remove comments that violate U.S. law.

v. At its sole discretion, GSA will discard entries and remove comments that it finds indecent, in bad taste, or off topic, or embrace or promote discrimination, hatred, or harm against any individual or group.

vi. Once an entry is accepted by GSA and posted to the contest Web site it may not be withdrawn by the contestant. Contestants may, however, submit more than one entry.

vii. Registered contestants agree to assume any and all risks and waive claims against the Federal Government and its related entities (as defined in 15 U.S.C. 3719), except in the case of willful misconduct, for any injury, death, damage, or loss of property, revenue, or profits, whether direct, indirect, or consequential, arising from their participation in this challenge, whether the injury, death, damage, or loss arises through negligence or otherwise. In addition, contestants agree to indemnify the Federal Government against third party claims for damages arising from or related to competition activities.

viii. Registered contestants are not required to obtain liability insurance or demonstrate financial responsibility in order to participate.

ix. Contest disputes arising from matters not addressed in these rules shall be resolved by GSA.

Contestants may submit their entries as text, a combination of text and graphics, or video. Entries must satisfy the following maximum and minimum length requirements. GSA will discard entries that fall outside of these bounds:

i. Text-only entries. 500-1,500 words, inclusive of title, footnotes, endnotes, citations, and other references.

ii. Text entries with graphics. 500-1,500 words, inclusive of text contained in graphics, titles, footnotes, endnotes, citations, and references. Text entries containing graphics must be printable at full size on no more than four single-sided 8½ x 11 inch sheets of paper with one inch margins.

iii. Video entries. 2½-7½ minutes of video posted to YouTube. Video entries must be supplemented with a separate document of introductory text, not to exceed 100 words, and a full written transcript. The introductory text will accompany the video's YouTube link on the challenge Web site.

To be eligible for recognition as a contest winner, contestants must submit their entries in English on the challenge site's “Submit Solution” tab. Contestants may submit multiple entries.

For text-only entries: Contestants are strongly encouraged to upload their entries as attachments using the site's “Additional Files” option; however, contestants may type or paste their entries in the “Submission Text” box.

For video entries: Contestants are strongly encouraged to upload their videos' introductory text and transcripts using the site's “Additional Files” option; however, contestants may type or paste their introductory text and/or transcripts in the “Submission Text” box.

For text entries with graphics: Contestants must submit text entries with embedded graphics as attached files using the site's “Additional Files” option.

4. Selection of Winners: Entries will be evaluated by GSA's Performance Improvement Council staff and the panel of judges named on the contest Web site. GSA is solely responsible for the selection of judges. Judging will take place in two rounds:

1. GSA's Performance Improvement Council staff will review all entries and award points according to the Judging Criteria, listed below. The ten entries with the most points will be selected as Round 1 finalists.

2. The panel of judges named on the contest site will select the winning entries, based on the Judging Criteria, from Round 1 finalists.

GSA will recognize up to four entries as winners based on the points awarded by the contest's judges. In addition, one entry will be selected for recognition based on the votes cast by visitors to the contest Web site.

i. “Best Overall” entry—Judges will select a best overall entry according to the criteria outlined under Judging Criteria.

ii. “Most Popular” entry—The entry that receives the highest average rating from among the five entries with the greatest number of votes received from visitors to the contest Web site will be recognized as the Most Popular.

iii. “Most Original Vision”—Judges may select an entry not recognized in another category as the most original based on the criteria for “originality” outlined under Judging Criteria.

iv. “Honorable Mention”—Judges may select up to two entries not recognized in another category for honorable mention based on the same criteria used to select the best overall entry.

Winning entries will be recognized on the contest and GSA Web sites. GSA will invite contest winners to participate in a moderated event about the future of program management, and may feature winning entries in a follow-up contest. The contest will award no cash prizes.

Contestants conditionally selected for awards will be notified by email using the contact information provided at registration. Final determination of contest winners is subject to verification of contestants' eligibility and compliance with all contest rules.

GSA reserves the right to cancel the contest before announcing winners.

5. Judging Criteria: The entry awarded the most points by contest judges in the following categories will be named the “Best Overall” entry.

i. Originality: Judges will award up to 35 points for originality. An original vision will see beyond or around the path defined by a linear extension of current trends in technology, the scope and nature of program managers' responsibilities, the workplace environment, or the professional competencies of program managers. An original vision will identify new or emerging trends that have the potential to transform the field.

ii. Clarity: Judges will award up to 35 points to entries that offer a clear and coherent vision of the future. Where originality demands imagination, clarity calls for focus and structure. Contestants will be awarded points for clarity to the extent that they offer a coherent view of the future and a convincing argument for how we'll get there.

iii. Presentation: Judges will award up to 30 points to entries for readability and style. Because GSA hopes to feature winning entries on its Web site and in other forums, judges will award the most points in this category to well-written and engaging entries that are likely to capture and hold the attention of a general audience.

6. Public Comment and Voting: GSA encourages visitors to the contest Web site to review entries, offer comments, and vote for their favorites. The comment and voting process offers the public an opportunity to contribute to the dialog.

i. Entries received from eligible contestants will be posted to the contest Web site after GSA determines that they comply with the contest's Terms and Conditions. Once an entry is posted to the contest Web site, Web site visitors will be able to view, comment on, and vote for that entry.

ii. The voting period will extend one week beyond the deadline for submission of entries in order to give visitors an opportunity to view, comment, and vote on all posted entries.

iii. Visitors may cast up to one vote for each entry, including their own.

iv. Visitors will vote by awarding up to 5 stars, with each star representing one point.

7. Post-Challenge Activity: The General Services Administration (GSA) and the Performance Improvement Council expect this challenge to kick off an ongoing dialog about current trends and challenges in public sector program management, what tomorrow promises, and how today's managers can position themselves and their organizations for future success. GSA will feature winning entries on both the challenge homepage and on the GSA Web site. GSA will also invite contest winners to participate in a moderated and recorded Google Hangout conversation, and may highlight ideas from one or more winning entries in a follow-up contest.

8. Optional Contestant Resource: “Profiles of Public Sector Program Managers—ca. 2014.”

Program managers in the public sector are a diverse group. They confront an extraordinary range of challenges in mission areas as diverse as regulatory compliance, basic research, service delivery, law enforcement, and military preparedness, to name just a few. While many are unique to a particular program mission, some challenges tend to be shared by all program managers.

The following profiles offer a snapshot of the immediate challenges faced by four government program managers. These challenges are defined in part by the tools and resources available to address them. They are defined, as well, by current expectations of what government can and should do. As expectations change, and as technology and workplace skills evolve, the nature of these challenges will change as well.

Profile 1—Regulatory Compliance

Trina is a program manager with a Federal Government regulatory agency. She leads an office that writes policy, processes industry applications for licenses, and tracks routine industry reporting in support of the agency's industry compliance efforts. The office also conducts inspections to ensure industry compliance with laws and policy. In the 20 years that Trina has spent with the Government, the work of her office has been transformed by historic advances in online and data processing technologies. Although the agency's compliance efforts are more effective than at any point in the past, Trina recognizes the need to develop more sophisticated approaches to keep up with a rapidly evolving industry and an increasingly complicated regulatory environment.

Profile 2—Service Delivery

Henry manages a program that benefits low income households. Removing barriers to participation by eligible households is central to the program's purpose. At the same time the program is committed to eliminating payments to ineligible recipients. Henry believes that facilitating access to benefits and strengthening program integrity need not compete against each other; greater understanding of the factors that lead to improper certification for program benefits might be useful in developing strategies to reach the unserved eligible population. Henry has challenged his staff and program partners to draw on their diversity of skills and perspectives to come up with ideas that advance both goals simultaneously so that 25 years from now the present tension between the two is replaced with a relationship of positive and mutual reinforcement. Welcome to the team!

Profile 3—Grants Management

Ty oversees an office that awards and administers grants to community-based social service organizations. As part of an ongoing effort to maximize the agency's return on investment, Ty's office is awarding more grants to organizations that promise innovative approaches to service delivery. Many of those organizations are first-time recipients of government grants. Although Ty and his staff are encouraged by early signs of success, they recognize the need for careful oversight and evaluation. They also recognize that new models of service delivery may call for changes in the way that the office collects and analyzes program data. Responding to these challenges is critical to ensuring that management of the grant-making process does not stand in the way of grantee-led program innovation.

Profile 4—Law Enforcement

Sami was recently hired by her city's chief of police to review the organization's case prioritization approach. She is faced with the dilemma of meeting higher expectations for successful criminal prosecution/crime reduction/agility in response to emerging threats without any increase in enforcement and civilian staff. She is expected to do so in a more transparent manner and to further complicate things, the budget is shrinking. Sami is reaching out to other law enforcement agencies to learn what they are doing that she may be able to replicate but she also believes that new, innovative approaches are necessary to meet expectations in the long run. She is actually more concerned about internal resistance to trying new approaches than she is about anything else.

Authority: America COMPETES Reauthorization Act of 2010, Section 105 (15 U.S.C. 3719).

Dated: April 24, 2014.
Kevin Donahue,
Executive Director, Performance Improvement Council, General Services Administration.

[FR Doc. 2014-10514 Filed 5-6-14; 8:45 am]

BILLING CODE 6820-BR-P